DEPARTMENT OF TRANSPORTATION

Surface Transportation Board

[STB Finance Docket No. 34927]

Coast Belle Rail Corp. d/b/a Santa Maria Valley Railroad—Lease and Operation Exemption—Line of Coast Belle Rail, LLC

Coast Belle Rail Corp. d/b/a Santa Maria Valley Railroad (CBRC), a noncarrier, has filed a verified notice of exemption under 49 CFR 1150.31 to operate approximately 8.74 miles of rail line owned by Coast Belle Rail, LLC. The line extends between milepost 3.26 near Guadalupe, CA, and milepost 9.0 at Santa Maria, CA, and includes the Airbase branch between milepost 9A at Santa Maria and milepost 12A. In the notice, CBRC also seeks to lease by assignment and operate 4.26 miles of rail line between milepost 0.0 and milepost 3.26, including the branch between milepost 3A at Betteravia Junction southeast and milepost 4A in Betteravia, CA, all located in Santa Barbara County, CA. The lease of this line of railroad, owned by the Union Pacific Railroad Company and presently leased to Santa Maria Valley Railroad Company, is being assigned to CBRC. CBRC will operate a total of 13.0 miles of rail line.

CBRC certifies that its projected annual revenues as a result of the transaction will not exceed those that would qualify it as a Class III rail carrier.

The transaction was scheduled to be consummated on or soon after September 26, 2006, the effective date of the exemption (7 days after the exemption was filed).

This transaction is related to a concurrently filed verified notice of exemption in STB Finance Docket No. 34923, Coast Belle Rail, LLC—Acquisition Exemption—Santa Maria Valley Railroad Company. In that proceeding, Coast Belle Rail, LLC seeks to acquire the 8.74 miles of rail line in Santa Barbara County, CA, that CBRC seeks to operate.

If the verified notice contains false or misleading information, the exemption is void ab initio. Petitions to revoke the exemption under 49 U.S.C. 10502(d) may be filed at any time. The filing of a petition to revoke will not automatically stay the transaction.

An original and 10 copies of all pleadings, referring to STB Finance Docket No. 34927, must be filed with the Surface Transportation Board, 1925 K Street, NW., Washington, DC 20423-0001. In addition, a copy of each pleading must be served on Sidney L. Strickland, Jr., Sidney Strickland and Associates, PLLC, 3050 K Street, NW., Suite 101, Washington, DC 20007.

Board decisions and notices are available on our Web site at http://www.stb.dot.gov.

Decided: October 6, 2006.
By the Board, David M. Konschnik, Director, Office of Proceedings.
Vernon A. Williams,
Secretary.

[FR Doc. E6-17144 Filed 10-13-06; 8:45 am]

BILLING CODE 4915-01-P